DEPARTMENT OF COMMERCE

National Oceanic And Atmospheric Administration

Coastal Zone Management Program: Illinois

AGENCY: Office of Ocean and Coastal Resource Management (OCRM), National Oceanic and Atmospheric Administration (NOAA), Department of Commerce (DOC).

ACTION: Notice of public hearing; request for public comments.

SUMMARY: This notice provides information on a public hearing to be held by NOAA and the Illinois Department of Natural Resources (IDNR) in Chicago, Illinois. The hearing involves the scope and content of a Draft Environmental Impact Statement (DEIS) prepared by NOAA's Office of Ocean and Coastal Resource Management. The DEIS assesses the environmental impacts associated with approval of the Illinois Coastal Management Program (ICMP). This notice also announces the opening of the public comment period on the DEIS.

DATES: The agency must receive comments on or before October 31, 2011.

ADDRESSES: • Public Hearing: The public hearing will be held October 14, 2011, starting at 1 p.m. CST, at the James R. Thompson Center, 100 W. Randolf Street, Room 9-040, Chicago, Illinois 60601.

• Written Comments: You may submit written comments concerning the DEIS by any one of the following methods:

• In Person: During the public hearing in Chicago, Illinois; or

• Mail: Diana Olinger, Coastal Program Specialist, OCRM/CPD, N/ORM3, Station 11204, 1305 East-West Highway, Silver Spring, MD 20910.

Instructions: OCRM encourages all interested parties to provide comments concerning the DEIS either orally at the public hearing, or in writing during the comment period, or both. Comments should be as specific as possible and include an analysis of the potential alternatives. This comment procedure is intended to ensure that substantive comments and concerns are made available to OCRM in a timely manner so that they may be addressed.

FOR FURTHER INFORMATION CONTACT: Diana Olinger, Coastal Program Specialist, National Oceanic and Atmospheric Administration, OCRM/CPD, N/ORM3, Station 11204, 1305 East-West Highway, Silver Spring, MD 20910, telephone (301) 563-1149, facsimile (301) 713-4367, e-mail Diana.Olinger@noaa.gov.

SUPPLEMENTARY INFORMATION: Illinois has submitted a coastal management program to NOAA for approval under the Coastal Zone Management Act (CZMA), 16 U.S.C. 1451, et. seq. The ICMP is the result of substantial efforts on the part of Federal, State, and local agencies, regional organizations, and public and private entities. Federal approval of the ICMP would make Illinois eligible for program administration grant funds and require Federal actions to be consistent with the federally-approved program.

Upon finding that a state program has satisfied the requirements of the CZMA, NOAA is required to prepare a DEIS. The Council on Environmental Quality regulations to implement the National Environmental Policy Act (NEPA), 40 CFR parts 1500-1508, apply to the preparation of the DEIS. Specifically, section 1506.6 requires agencies to provide public notice of NEPA-related hearings and the availability of environmental documents. This notice is part of NOAA's effort to comply with those regulations.

Copies of the DEIS are available by any one of the following methods:

• Contact Diana Olinger, NOAA Coastal Program Specialist, at the address indicated above;

• OCRM's Web site: http://coastalmanagement.noaa.gov/mystate/il.html; or

• Illinois Department of Natural Resource's Web site: http://www.dnr.illinois.gov/cmp/Pages/documentation/aspx.

Dated: September 9, 2011.
Donna Wieting,
Director, Office of Ocean and Coastal Resource Management.

[FR Doc. 2011-23626 Filed 9-14-11; 8:45 am]

BILLING CODE 3510-08-P